ENVIRONMENTAL PROTECTION AGENCY

[FRL-9721-2]

Notification of a Joint Public Teleconference of the Chartered Science Advisory Board and Board of Scientific Counselors

AGENCY: Environmental Protection Agency (EPA).

ACTION: Notice.

SUMMARY: The Environmental Protection Agency (EPA) Science Advisory Board (SAB) Staff Office announces a joint public teleconference of the Chartered SAB and Board of Scientific Counselors (BOSC) to discuss a draft report providing advice on implementation of Office of Research and Development's (ORD's) strategic directions for research.

DATES: The public teleconference will be held on September 19, 2012 from 12 p.m. to 3 p.m. (Eastern Daylight Time).

ADDRESSES: The public teleconference will be conducted by telephone only.

FOR FURTHER INFORMATION CONTACT: Any member of the public wishing to obtain general information regarding the quality review teleconference should contact Dr. Angela Nugent, Designated Federal Officer (DFO), EPA Science Advisory Board (1400R), 1200 Pennsylvania Avenue NW., Washington, DC 20460; via telephone/voice mail (202) 564-2218; fax (202) 565-2098 or via email at nugent.angela@epa.gov. General information concerning the EPA Science Advisory Board can be found on the SAB Web site at http://www.epa.gov/sab.

SUPPLEMENTARY INFORMATION: The SAB was established pursuant to the Environmental Research, Development, and Demonstration Authorization Act (ERDAA), codified at 42 U.S.C. 4365, to provide independent scientific and technical advice to the Administrator on the technical basis for Agency positions and regulations. The BOSC was established by the EPA to provide advice, information, and recommendations regarding the ORD research program. The SAB and BOSC are Federal Advisory Committees chartered under the Federal Advisory Committee Act (FACA), 5 U.S.C., App. 2. Pursuant to FACA and EPA policy, notice is hereby given that the SAB and BOSC will hold a joint public teleconference to discuss a draft report providing advice on implementation of ORD's new strategic directions for research. The SAB and BOSC will comply with the provisions of FACA and all appropriate SAB Staff Office procedural policies.

Background: ORD has restructured its research programs to better understand environmental problems and inform sustainable solutions to meet EPA's strategic goals. The restructured research programs comprise six program areas: Air, Climate, and Energy; Safe and Sustainable Water Resources; Sustainable and Healthy Communities; Chemical Safety for Sustainability; Human Health Risk Assessment; and Homeland Security.

ORD requested that the SAB work jointly with the BOSC to provide advice on implementation of ORD's strategic research action plans; efforts to strengthen program integration; and efforts to strengthen and measure innovation. The SAB and BOSC held a joint public meeting on July 10-11, 2012, to discuss implementation of ORD's six major research programs (77 FR 36273-36274). The SAB and BOSC will hold a public teleconference on September19, 2012, to discuss their draft joint advisory report. Additional information about SAB and BOSC advice on implementing ORD strategic research directions can be found on the SAB Web site at http://yosemite.epa.gov/sab/sabproduct.nsf/fedrgstr_activites/Impl%20ORD%20Strat%20Dir?OpenDocument.

Availability of Meeting Materials: The agenda and other materials in support of the teleconference will be placed on the SAB Web site at http://www.epa.gov/sab in advance of the teleconference.

Procedures for Providing Public Input: Public comment for consideration by EPA's federal advisory committees and panels has a different purpose from public comment provided to EPA program offices. Therefore, the process for submitting comments to a federal advisory committee is different from the process used to submit comments to an EPA program office. Federal advisory committees and panels, including scientific advisory committees, provide independent advice to EPA. Members of the public can submit relevant comments pertaining to the group providing advice, EPA's charge questions and EPA review or background documents. Input from the public to the SAB will have the most impact if it consists of comments that provide specific scientific or technical information or analysis for the SAB to consider or if it relates to the clarity or accuracy of the technical information. Members of the public wishing to provide comment should contact the DFO for the relevant advisory committee directly.

Oral Statements: In general, individuals or groups requesting time to make an oral presentation at a public SAB teleconference will be limited to three minutes. Those interested in being placed on the public speakers list for the September 19, 2012 teleconference should contact Dr. Nugent at the contact information provided above by September 14, 2012.

Written Statements: Written statements should be supplied to the DFO via email to nugent.angela@epa.gov by September 14, 2012. Written statements should be supplied in one of the following acceptable file formats: Adobe Acrobat PDF, MS Word, MS PowerPoint, or Rich Text files in IBM-PC/Windows 98/2000/XP format). It is the SAB Staff Office general polity to post written comments on the Web page for the advisory meeting or teleconference.

Accessibility: For information on access or services for individuals with disabilities, please contact Dr. Nugent, as appropriate at the contact information provided above. To request accommodation of a disability, please contact Dr. Nugent preferably at least 10 days prior to the teleconference, to give EPA as much time as possible to process your request.

Dated: August 16, 2012.
Thomas H. Brennan,
Deputy Director, EPA Science Advisory Board Staff Office.

[FR Doc. 2012-21206 Filed 8-27-12; 8:45 am]

BILLING CODE 6560-50-P